NUCLEAR REGULATORY COMMISSION

10 CFR Parts 50, 52, and 73

[NRC-2017-0227]

RIN 3150-AK19

Physical Security for Advanced Reactors

AGENCY: Nuclear Regulatory Commission.

ACTION: Preliminary proposed rule language; notice of availability.

SUMMARY: The U.S. Nuclear Regulatory Commission (NRC) is making preliminary proposed rule language for the Alternative Physical Security Requirements for Advanced Reactors rulemaking available to the public. The NRC is not requesting public comment at this time; however, the public will have an opportunity to provide comment when the proposed rule is published in the future.

DATES: The preliminary proposed rule language is available on September 14, 2020.

ADDRESSES: Please refer to Docket ID NRC-2017-0227 when contacting the NRC about the availability of information for this action. You may obtain publicly available information related to this action by any of the following methods:

• Federal Rulemaking Website: Go to https://www.regulations.gov and search for Docket ID NRC-2017-0227. Address questions about NRC docket IDs to Carol Gallagher; telephone: 301-415-3463; email: Carol.Gallagher@nrc.gov. For technical questions, contact the individuals listed in the FOR FURTHER INFORMATION CONTACT section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to pdr.resource@nrc.gov. The preliminary proposed rule language is available in ADAMS under Accession No. ML20182A157.

• Attention: The Public Document Room (PDR), where you may examine and order copies of public documents is currently closed. You may submit your request to the PDR via email at PDR.Resource@nrc.gov or call 1-800-397-4209 between 8:00 a.m. and 4:00 p.m. (EST), Monday through Friday, except Federal holidays.

FOR FURTHER INFORMATION CONTACT: Dennis Andrukat, Office of Nuclear Material Safety and Safeguards, telephone: 301-415-3561, email: Dennis.Andrukat@nrc.gov; or Nanette Valliere, Office of Nuclear Reactor Regulation, telephone: 301-415-8462, email: Nanette.Valliere@nrc.gov. Both are staff of the U.S. Nuclear Regulatory Commission, Washington, DC 20555-0001.

SUPPLEMENTARY INFORMATION: The preliminary proposed rule language has been revised from the version provided in support of an April 22, 2020 public meeting. The revisions address NRC consideration of public comments received during and after the April 22, 2020, public meeting. The preliminary proposed rule language is available in ADAMS under Accession No. ML20182A157. For more information, see the public meeting summary at ADAMS Accession No. ML20189A274.

The NRC is not requesting public comment at this time; however, the public will have an opportunity to provide comment when the proposed rule is published in the Federal Register in the future.

Dated September 3, 2020.
For the Nuclear Regulatory Commission.
Ho K. Nieh,
Director, Office of Nuclear Reactor Regulation.

[FR Doc. 2020-19907 Filed 9-11-20; 8:45 am]

BILLING CODE 7590-01-P